SURFACE TRANSPORTATION BOARD

[Docket No. FD 36257]

Alcoa Energy Services, Inc.—Acquisition Exemption—Rockdale, Sandow & Southern Railroad Company

Alcoa Energy Services, Inc. (AESI), a noncarrier, has filed a verified notice of exemption under 49 CFR 1150.31 to acquire from Rockdale, Sandow & Southern Railroad Company (RSSR) a railroad line extending from milepost 0.0 at a point of connection with Union Pacific Railroad Company (UP) at Marjorie, Tex., to milepost 6.0 at Sandow, Tex., a total of approximately 6 miles, along with appurtenant land and ancillary trackage (the Line).

AESI states that, as a result of this transaction, it will assume the associated common carrier obligations under federal law, including the obligation to provide rail service. However, AESI states that the Line is currently inactive and it is uncertain at what future point demand for rail service over the Line could again materialize to warrant restored rail operations.

AESI certifies that, as a consequence of the proposed transaction, its projected annual revenues will not result in its becoming a Class II or a Class I rail carrier and its projected annual revenues will not exceed $5 million. AESI also certifies that the proposed transaction does not involve any interchange commitments as defined in 49 CFR 1150.33(h).

The earliest this transaction may be consummated is December 28, 2018, the effective date of the exemption (30 days after the verified notice was filed). AESI states that it intends to consummate the transaction on, or very shortly after, the effective date.

If the verified notice contains false or misleading information, the exemption is void ab initio. Petitions to revoke the exemption under 49 U.S.C. 10502(d) may be filed at any time. The filing of a petition to revoke will not automatically stay the effectiveness of the exemption. Petitions to stay must be filed by December 21, 2018 (at least seven days before the exemption becomes effective).

An original and 10 copies of all pleadings, referring to Docket No. FD 36257, must be filed with the Surface Transportation Board, 395 E Street SW, Washington, DC 20423-0001. In addition, a copy of each pleading must be served on AESI's counsel, Robert A. Wimbish, Fletcher & Sippel LLC, 29 North Wacker Drive, Suite 800, Chicago, IL 60606.

According to AESI, no environmental or historic documentation or report is required pursuant to 49 CFR 1105.6(c) and 1105.8(b).

Board decisions and notices are available on our website at www.stb.gov.

Decided: December 10, 2018.
By the Board, Scott M. Zimmerman, Acting Director, Office of Proceedings.
Kenyatta Clay,
Clearance Clerk.

[FR Doc. 2018-27099 Filed 12-13-18; 8:45 am]

BILLING CODE 4915-01-P